DEPARTMENT OF TRANSPORTATION

Federal Motor Carrier Safety Administration

[Docket No. FMCSA-2007-29048]

Random Alcohol and Controlled Substance Testing: Bordentown Driver Training School, L.L.C., Doing Business as Smith & Solomon Driver Training; Application for Exemption

AGENCY: Federal Motor Carrier Safety Administration (FMCSA), DOT.

ACTION: Notice of application for exemption; request for comments.

SUMMARY: The FMCSA announces that it has received an application from Bordentown Driver Training, L.L.C., doing business as Smith & Solomon Driver Training (Smith & Solomon), seeking an exemption from the random controlled substances and alcohol testing regulations for student drivers enrolled in its commercial motor vehicle driver training program. Under the exemption, Smith & Solomon's student drivers would not be required to undergo random controlled substances and alcohol testing while enrolled in its 4-week driver-training program. The FMCSA requests public comment on Smith & Solomon's application for exemption.

DATES: Comments must be received on or before October 9, 2007.

ADDRESSES: You may submit comments identified by DOT DMS Docket No. FMCSA-2007-29048 using any of the following methods:

• Web Site: Go to http://dmses.dot.gov/submit. Follow the instructions for submitting comments on the DOT electronic docket site.

• Fax: 1-202-493-2251.

• Mail: Docket Management Facility; U.S. Department of Transportation, Room W12-140, 1200 New Jersey Ave., SE., Washington, DC 20590.

• Hand Delivery: Room W12-140, Ground Floor of West Building, U.S. Department of Transportation, 1200 New Jersey Ave., SE., Washington, DC 20590, between 9 a.m. and 5 p.m., Monday through Friday, except Federal holidays.

Docket: For access to the docket to read background documents or comments received, go to http://dms.dot.gov at any time or Room W12-140, Ground Floor of West Building, U.S. Department of Transportation, 1200 New Jersey Ave., SE., Washington, DC 20590, between 9 a.m. and 5 p.m., Monday through Friday, except Federal holidays. The DMS is available 24 hours each day, 365 days each year. If you want us to notify you that we received your comments, please include a self-addressed, stamped envelope or postcard or print the acknowledgement page that appears after submitting comments on-line.

FOR FURTHER INFORMATION CONTACT: Mr. Thomas Yager, Chief, FMCSA Driver and Carrier Operations Division, Office of Bus and Truck Standards and Operations: Telephone: 202-366-4235. E-mail: MCPSD@dot.gov.

SUPPLEMENTARY INFORMATION:

Background

Section 4007 of the Transportation Equity Act for the 21st Century (Pub. L. 105-178, 112 Stat. 107, June 9, 1998) amended 49 U.S.C. 31315 and 31136(e) to provide authority to grant exemptions from the motor carrier safety regulations. On August 20, 2004, FMCSA published a final rule (69 FR 51589) on section 4007. Under the regulations, FMCSA must publish a notice of each exemption request in the Federal Register (49 CFR 381.315(a)). The FMCSA must provide the public with an opportunity to inspect the information relevant to the application, including any safety analyses that have been conducted, and it must provide an opportunity for public comment on the request.

The FMCSA reviews the safety analyses and the public comments and determines whether granting the exemption would achieve a level of safety equivalent to or greater than the level that would be achieved absent the exemption (49 CFR 381.305). The FMCSA's decision must be published in the Federal Register (49 CFR 381.315(b)). If FMCSA denies the request, it must state the reason for doing so. If FMCSA grants the exemption, the notice must specify the person or class of persons receiving the exemption and the regulatory provision or provisions from which exemption is being granted. The notice must also specify the effective period of the exemption (up to 2 years) and explain the terms and conditions of the exemption. The exemption may be renewed (49 CFR 381.300(b)).

Request for Exemption

Smith & Solomon is requesting a 2-year exemption from 49 CFR 382.305, “Random testing,” which provides in part that:

(a) Every employer shall comply with the requirements of this section. Every driver shall submit to random alcohol and controlled substance testing as required in this section * * *

Smith & Solomon is a corporate entity providing commercial driver training in classrooms and “behind the wheel” to students who enroll in its 4-week program. A copy of the course curriculum and requirements for the Smith & Solomon driver training program is included in the docket for this notice. Smith & Solomon employs administrative and office staff and certified and licensed driver instructor personnel to conduct the functions of its commercial driver-training school. Driver-instructors and any other person assigned to operate a commercial motor vehicle (CMV) are subject to, and comply with, all alcohol and controlled substance testing required by the Federal Motor Carrier Safety Regulations. Students are subject to pre-enrollment, reasonable suspicion, and post-accident alcohol and controlled substance testing. According to Smith & Solomon's application, student drivers undergo controlled substance testing before enrollment, and no student is permitted in a CMV until Smith & Solomon's Director of Safety receives a negative alcohol and controlled substance test. Also, student drivers are not allowed to operate CMVs if Smith & Solomon's instructors have reasonable suspicion of alcohol or controlled substance use.

Smith & Solomon seeks an exemption from the requirements of the random controlled substances and alcohol testing program (49 CFR 382.305) for its student drivers because all student drivers undergo controlled substance testing before enrollment. Additionally, Smith & Solomon advises that student enrollments only last for a period of 4 to 6 weeks, and the student drivers are subject to reasonable-suspicion and post-accident alcohol and controlled substance testing. Smith & Solomon adds that during the length of their enrollment, students only spend an average of 30 hours behind the wheel of a CMV starting in the third week of the enrollment period, always with a Smith & Solomon certified and licensed employee driver-instructor, and the remainder of time is spent by the student in the classroom and in the practice yard.

Smith & Solomon advises that its student driver enrollment varies every 4 weeks, and students do not always stay enrolled throughout the 4-week course. As an example, Smith & Solomon states that during the period January 2007 through May 2007, 112 students were selected for random alcohol and controlled substance testing, but only 90 students were tested because 22 were no longer enrolled in the student driver program. During the course of a calendar year, approximately 185 students, or 7 percent of students enrolled in a program, do not complete the course and therefore cannot be tested. Smith & Solomon advises that random alcohol and controlled substance testing of driver-students enrolled in driver training program results in substantial cost to the company.

Smith & Solomon requests that the exemption should be granted because:

(A) Administering a random controlled substances and alcohol testing program to a student population that changes every 4 weeks makes regulatory compliance very difficult and financially burdensome to achieve, without any additional benefit to the public safety; and

(B) Its program of requiring pre-enrollment, reasonable suspicion and post-accident alcohol and controlled substance testing to students who only train behind the wheel of a commercial motor vehicle, always with certified and licensed employee driver instructors, for approximately 30 hours during the enrollment period, adequately protects the public safety.

Request for Comments

In accordance with 49 U.S.C. 31315 and 31136(e), FMCSA requests public comment on Smith & Solomon's application for exemption from 49 CFR 382.305. The FMCSA will consider all comments received by close of business on October 9, 2007. Comments will be available for examination in the docket at the location listed under the ADDRESSES section of this notice. The FMCSA will file comments received after the comment closing date in the public docket and will consider them to the extent practicable. In addition to late comments, FMCSA will also continue to file in the public docket relevant information that becomes available after the comment closing date. Interested persons should monitor the public docket for new material.

Issued on: August 29, 2007.
Larry W. Minor,
Associate Administrator for Policy and Program Development.

[FR Doc. E7-17550 Filed 9-5-07; 8:45 am]

BILLING CODE 4910-EX-P